ENVIRONMENTAL PROTECTION AGENCY

[EPA-HQ-OAR-2013-0118; FRL-9999-42-OMS]

Information Collection Request Submitted to OMB for Review and Approval; Comment Request; Control of Evaporative Emissions From New and In-Use Portable Gasoline Containers (Renewal)

AGENCY: Environmental Protection Agency (EPA).

ACTION: Notice.

SUMMARY: The Environmental Protection Agency (EPA) has submitted an information collection request (ICR), Control of Evaporative Emissions from New and In-Use Portable Gasoline Containers (EPA ICR Number 2213.06, OMB Control Number 2060-0597) to the Office of Management and Budget (OMB) for review and approval in accordance with the Paperwork Reduction Act. This notice is a proposed extension of the Portable Fuel Container ICR, which is currently approved through September 30, 2019. Public comments were previously requested via the Federal Register on April 24, 2019 during a 60-day comment period. This notice allows for an additional 30 days for public comments. A fuller description of the ICR is given below, including its estimated burden and cost to the public. An agency may not conduct or sponsor and a person is not required to respond to a collection of information unless it displays a currently valid OMB control number.

DATES: Additional comments must be submitted on or before October 28, 2019.

ADDRESSES: Submit your comments, referencing the Docket ID No. EPA-HQ-OAR-2013-0118, to (1) EPA online using www.regulations.gov (our preferred method), or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Julia Giuliano, Compliance Division, Office of Transportation and Air Quality, U.S. Environmental Protection Agency, 2000 Traverwood, Ann Arbor, Michigan 48105; telephone number: 734-214-4865; fax number 734-214-4869; email address: giuliano.julia@epa.gov.

SUPPLEMENTARY INFORMATION: Supporting documents, which explain in detail the information that the EPA will be collecting, will be available in the public docket for this ICR. The docket can be viewed online at www.regulations.gov or in person at the EPA Docket Center, EPA West, Room 3334, 1301 Constitution Ave. NW, Washington, DC. The telephone number for the Docket Center is 202-566-1744. For additional information about EPA's public docket, visit http://www.epa.gov/dockets.

Abstract: EPA is required under Section 183(e) of the Clean Air Act to regulate Volatile Organic Compound (VOC) emissions from the use of consumer and commercial products. Under regulations promulgated on February 26, 2007 (72 FR 8428) manufacturers of new portable gasoline containers are required to obtain certificates of conformity with the Clean Air Act, effective January 1, 2009. This ICR covers the burdens associated with this certification process. EPA reviews information submitted in a manufacturer's application for certification to determine if the gasoline container design conforms to applicable regulatory requirements and to verify that the required testing has been performed. The certificate holder is required to keep records on the testing and collect and retain warranty and defect information for annual reporting on in-use performance of their products. The respondent must also retain records on the units produced, apply serial numbers to individual containers, and track the serial numbers to their certificates of conformity. Any information submitted for which a claim of confidentiality is made is safeguarded according to EPA regulations at 40 CFR 2.201 et seq.

Form Numbers: None.

Respondents/affected entities: Manufacturers of new portable gasoline containers from 0.25 to 10.0 gallons in capacity.

Respondent's obligation to respond: Mandatory (40 CFR part 59, subpart F).

Estimated number of respondents: 8.

Frequency of response: Annually for warranty reports; at least once every five years for certificate renewals.

Total estimated burden: 250 hours (per year). Burden is defined at 5 CFR 1320.3(b).

Total estimated cost: $27,902 (per year), which includes $14,010 annualized capital or operation & maintenance costs.

Changes in the Estimates: The number of manufacturers remains at eight and we do not anticipate any net changes in that figure in the next three years. The decrease in anticipated costs is due to the removal of three emissions applications.

Courtney Kerwin,
Director, Collection Strategies Division.

[FR Doc. 2019-20886 Filed 9-25-19; 8:45 am]

BILLING CODE 6560-50-P